DEPARTMENT OF TRANSPORTATION

Surface Transportation Board

[STB Finance Docket No. 35201]

Eastern Washington Gateway Railroad Company—Change in Operator Exemption—Rail Line of Spokane County, WA

Eastern Washington Gateway Railroad Company (EWG),¹ a Class III rail carrier, has filed a verified notice of exemption under 49 CFR 1150.41 to change operators from Western Rail Switching, Inc. (WRS) to EWG over approximately 5.9 miles of rail line (the Geiger Spur) owned by the County of Spokane (County). As recently reconfigured, the line extends from milepost 2.5 at the east gate of Fairchild Air Force Base to milepost 4.93 at McFarlane and Hayford Roads near Airway Heights, WA, and from a connection with EWG at milepost 0.00 at Geiger Junction near Medical Lake, WA, to milepost 3.45 at a connection with the first segment (milepost 2.7 on the first segment).² EWG will acquire all of WRS's interests in an existing operating agreement with the County and will replace WRS as the operator of the Geiger Spur.

¹ EWG is a wholly owned subsidiary of US Rail Partners, Ltd., a noncarrier holding company which also controls the Blackwell Northern Gateway Railroad Company, a Class III carrier, in Oklahoma. See US Rail Partner, Ltd.—Continuance in Control Exemption—Eastern Washington Gateway Railroad Company, STB Finance Docket No. 35030 (STB served May 25, 2007).

² EWG states that the western end of the Geiger Spur traverses Fairchild Air Force Base, and for security reasons the U.S. Air Force has required the County to remove rail operations from the base by September 30, 2009. The relocation involves construction of approximately 3.45 miles of track from new milepost 0.00 at Geiger Junction to new milepost 3.45 at a new switch connection with the existing Geiger Spur.

EWG certifies that its projected annual revenue as a result of this transaction will not result in the creation of a Class II or Class I rail carrier and further certifies that its projected annual revenues will not exceed $5 million.

The transaction is expected to be consummated on or after December 21, 2008, which is the earliest the transaction can be consummated (30 days after the exemption was filed).

If the notice contains false or misleading information, the exemption is void ab initio. Petitions to revoke the exemption under 49 U.S.C. 10502(d) may be filed at any time. The filing of a petition to revoke does not automatically stay the transaction. Petitions for stay must be filed no later than December 12, 2008 (at least 7 days before the exemption becomes effective).

Pursuant to the Consolidated Appropriations Act, 2008, Public Law 110-161, section 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

An original and 10 copies of all pleadings, referring to STB Finance Docket No. 35201, must be filed with the Surface Transportation Board, 395 E Street, SW., Washington, DC 20423-0001. In addition, a copy of each pleading must be served on Thomas J. Litwiler, Fletcher & Sippel LLC, 29 North Wacker Drive, Suite 920, Chicago, IL 60606-2832.

Board decisions and notices are available on our Web site at http://www.stb.dot.gov.

Decided: November 26, 2008.
By the Board, David M. Konschnik, Director, Office of Proceedings.
Jeffrey Herzig,
Clearance Clerk.

[FR Doc. E8-28717 Filed 12-4-08; 8:45 am]

BILLING CODE 4915-01-P